DEPARTMENT OF COMMERCE

National Oceanic and Atmospheric Administration

RIN 0648-XM79

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee on February 6, 2009 to consider actions affecting New England fisheries in the exclusive economic zone (EEZ). Recommendations from this group will be brought to the full Council for formal consideration and action, if appropriate.

DATES: This meeting will be held on Friday, February 6, 2009 at 8:30 a.m.

ADDRESSES: Meeting address: The meeting will be held at the Radisson Airport Hotel, 2081 Post Road, Warwick, RI 02886; telephone: (401) 739-3000; fax: (401) 732-9309.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Scientific and Statistical Committee (SSC) will review the process to be used by the Scallop Plan Development Team to develop recommendations, as part of Amendment 15 to the Scallop Fishery Management Plan, for acceptable biological catch (ABCs), annual catch limits (ACLs) and accountability measures (AMs), as well as methods for analyzing the social and economic impacts of management measures. The SSC also will review recommendations from the Skate Plan Development Team regarding updated Skate Total Allowable Landings (TALs), as well as ABCs, ACLs and AMs, as part of Amendment 3 to the Skate Fishery Management Plan, using new data reviewed during the recent Data Poor Stocks Peer Review Meeting.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: January 14, 2009.
Tracey L. Thompson,
Acting Director, Office of Sustainable Fisheries, National Marine Fisheries Service.

[FR Doc. E9-1084 Filed 1-16-09; 8:45 am]

BILLING CODE 3510-22-S